DEPARTMENT OF COMMERCE

United States Patent and Trademark Office

[Docket No.: PTO-C-2017-0024]

Notice of Public Meeting on Voluntary Initiatives To Combat Infringement of Intellectual Property in the Online Environment

AGENCY: United States Patent and Trademark Office, Department of Commerce.

ACTION: Notice of public meeting.

SUMMARY: The United States Patent and Trademark Office (USPTO) will host a public meeting at its headquarters in Alexandria, Virginia, on July 17, 2017, on measuring the impact of voluntary initiatives undertaken to reduce intellectual property infringement, such as copyright piracy and trademark counterfeiting, that occurs online.

DATES: The public meeting will be held on July 17, 2017, from 9 a.m. to 4 p.m.

ADDRESSES: The public meeting will be held at the United States Patent and Trademark Office, Madison Building, Global Intellectual Property Academy, 600 Dulany Street, Alexandria, Virginia 22314. All major entrances to the building are accessible to people with disabilities.

FOR FURTHER INFORMATION CONTACT: For further information regarding the public meeting, please contact Peter Fowler, Charisma Hampton, or Nadine Herbert at the Office of Policy and International Affairs, by telephone at (571) 272-9300, by email at peter.fowler@uspto.gov, charisma.hampton@uspto.gov, and nadine.herbert@uspto.gov, or by postal mail addressed to: Mail Stop OPIA, United States Patent and Trademark Office, P.O. Box 1450, Alexandria, VA 22313-1450, ATTN: Peter Fowler, Charisma Hampton, or Nadine Herbert. Please direct all media inquiries to the Office of the Chief Communications Officer, USPTO, at (571) 272-8400.

SUPPLEMENTARY INFORMATION: The rapid growth of the online marketplace for goods and services has been accompanied by a rise in online infringement of intellectual property, including copyright piracy and trademark infringement. In response, the private sector has undertaken a range of voluntary initiatives to help reduce that infringement.

The Executive Branch has supported these voluntary initiatives. The 2013 Joint Strategic Plan on Intellectual Property Enforcement (JSP) encouraged their development, and the FY 2017-2019 JSP (available at https://www.whitehouse.gov/sites/whitehouse.gov/files/omb/IPEC/2016jointstrategicplan.pdf) identified four research-related “action items” to be taken to enhance the initiatives, as well as broadly-directed “calls for research” on their impact and effectiveness.” (See Action Nos. 2.2., 2.3, 2.5, and 2.6, at pp. 63 and 65-66 of the FY 2017-2019 JSP, and the “calls for research” on the initiatives, at pp. 145-146 of the FY 2017-2019 JSP).

On June 20, 2013, the United States Patent and Trademark Office requested input from the public on the impact of the initiatives (78 FR 37210, June 20, 2013). The USPTO has also convened meetings with content creators and Internet service providers, brand owners and payment processing companies, representatives of the advertising community and third-party content and brand owners, as well as with Internet service providers and technology companies to discuss existing voluntary efforts to reduce infringement on commercial platforms that facilitate illicit activities.

To continue this outreach, and as part of the Executive Branch's implementation of the FY 2017-2019 JSP's action items and calls for research, the USPTO will conduct a public meeting on Voluntary Initiatives in the Digital Environment on July 17, 2017. Topics will include methods and metrics for conducting empirical research on the digital economy; evaluating the effectiveness of self-regulatory regimes; case studies of certain private sector initiatives; the role of voluntary undertakings in raising consumer awareness; stemming revenue flows to bad actors; and lessons learned and next steps.

Instructions and Information on the Public Meeting

The public meeting will be held at the United States Patent and Trademark Office, Madison Building, Global Intellectual Property Academy, 600 Dulany Street, Alexandria, Virginia 22314. The public meeting will begin at 9 a.m. and end at 4 p.m. The agenda will be available a week before the meeting on the USPTO Web site, https://www.uspto.gov/learning-and-resources/ip-policy/enforcement/voluntary-initiatives-combat-infringement-intellectual. Registration is also available at the same URL. Attendees may also register at the door one half-hour prior to the beginning of the meeting.

The public meeting will be physically accessible to people with disabilities. Individuals requiring accommodation, such as sign language interpretation or other ancillary aids, should communicate their needs to Nadine Herbert at the Office of Policy and International Affairs, by telephone at (571) 272-9300, by email at nadine.herbert@uspto.gov, or by postal mail addressed to: Mail Stop OPIA, United States Patent and Trademark Office, P.O. Box 1450, Alexandria, VA 22313-1450, ATTN: Nadine Herbert, at least seven (7) business days prior to the symposium.

Dated: June 16, 2017.
Joseph Matal,
Performing the Functions and Duties of the Under Secretary of Commerce for Intellectual Property and Director of the United States Patent and Trademark Office.

[FR Doc. 2017-12992 Filed 6-21-17; 8:45 am]

BILLING CODE 3510-16-P